FEDERAL COMMUNICATIONS COMMISSION

47 CFR Part 27

[WT Docket Nos. 03-66, 03-67, 02-68, 00-230, MM Docket No. 97-217, IB Docket No. 02-364, ET Docket No. 00-258; FCC 06-46]

Facilitating the Provision of Fixed and Mobile Broadband Access, Educational and Other Advanced Services in the 2150-2162 and 2500-2690 MHz Bands; Review of the Spectrum Sharing Plan Among Non-Geostationary Satellite Orbit Mobile Satellite Service Systems in the 1.6/2.4 GHz Bands

ACTION: Final rule, announcement of effective date.

SUMMARY: The Federal Communications Commission (FCC) received Office of Management and Budget (OMB) approval on October 31, 2006, for the information collection requirements contained in the Third Memorandum Opinion and Order and Second Report and Order (FCC 06-46), OMB Control Number 3060-1094, pursuant to the requirements of the Paperwork Reduction Act of 1995, Public Law 104-13. An agency may not conduct or sponsor and a person is not required to respond to a collection of information unless it displays a currently valid control number.

DATES: The effective date for the rules and the information collection requirements contained in 47 CFR 27.1231(d), (f), and (g), and 47 CFR 27.1235 through 27.1239, published in the Federal Register on June 19, 2006, at 71 FR 35178, is October 31, 2006.

FOR FURTHER INFORMATION CONTACT: Nancy Zaczek, Federal Communications Commission, Wireless Telecommunications Bureau, Broadband Division, 445 12th Street, SW., Washington, DC 20554, at (202) 418-7590 or via the Internet at Nancy.Zaczek@fcc.gov.

SUPPLEMENTARY INFORMATION: OMB Control No.: 3060-1094.

OMB Approval Date: 10/31/2006.

OMB Expiration Date: 10/31/2009.

Title: Licensing, Operation, and Transition of the 2500-2690 MHz Band.

Form No.: N/A.

Estimated Annual Burden: 2,500 respondents; 8,355 annual burden hours; 0.25-5 hours per respondent.

Needs and Uses: In the Commission's Third Memorandum Opinion and Order and Second Report and Order (FCC 06-46), New Broadband Radio Service (BRS) and Educational Broadband Service (EBS) band plan transitions take place in Basic Trading Areas (BTAs), which will provide both incumbent licensees and potential new entrants in the 2495-2690 MHz band with greatly enhanced flexibility to encourage the efficient and effective use of spectrum domestically and internationally and the growth and rapid development of innovative and efficient communications technologies and services. The information collection requirements are contained in the following rule sections: (1) The pre-transition data request (47 CFR 27.1231(d)); (2) the transition notice (47 CFR 27.1231(e)); (3) the Initiation Plan (47 CFR 27.1231(f)); and (4) the post-transition notification (47 CFR 27.1235). The Pre-transition data request will be collected by a third-party proponent (proponent) to assist in the transitioning the 2500-2690 MHz band. The proponent may use a variety of methods, including a computerized database. The proponent will send the transition notice to all BRS and EBS licensees in the BTA that the proponent is transitioning. The FCC will collect the Initiation Plan and the Post-transition Notification from the proponent to enable the FCC to assess when transitions have begun and when they have ended. The FCC will use our electronic comment and filing system (ECFS) database to collect this information from the proponents.

Federal Communications Commission.
Marlene H. Dortch,
Secretary.

[FR Doc. E6-20677 Filed 12-6-06; 8:45 am]

BILLING CODE 6712-01-P